DEPARTMENT OF HOMELAND SECURITY

Coast Guard

[Docket Number: USCG-2022-0808]

Area Maritime Security Advisory Committee for New Orleans, LA

AGENCY: Coast Guard, DHS.

ACTION: Solicitation for membership.

SUMMARY: This notice requests individuals interested in serving on the New Orleans Area Maritime Security Advisory Committee (AMSC) submit their applications for membership to the Captain of the Port (COTP) Sector New Orleans.

DATES: Requests for membership should reach the U.S. Coast Guard COTP Sector New Orleans by 02 January 2022.

ADDRESSES: Applications for membership should be submitted to the COTP at the following address: Commander, Sector New Orleans, Attn: Mr. Roy Ford, New Orleans AMSC Executive Secretary, 200 Hendee St., New Orleans, LA 70114-1402.

FOR FURTHER INFORMATION CONTACT: For questions, regarding application submission or AMSC in general please contact Mr. Roy Ford, New Orleans AMSC Executive Secretary; phone: (504) 365-2116.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees for any port area of the United States. (See 46 U.S.C. 70116; 46 U.S.C. 70112; 33 CFR 1.05-1, 6.01; Department of Homeland Security Delegation No. 0170.1). The MTSA includes a provision exempting these AMSCs from the Federal Advisory Committee Act (FACA), Public Law 92-436, and 86 Stat. 470 (5 U.S.C. App. 2).

New Orleans AMSC Mission

The New Orleans AMSC shall assist the Captain of the Port in the development, review, update, and exercising of the Area Maritime Security Plan (AMSP) for their respective area of responsibility. Such matters may include, but are not limited to: identifying critical port infrastructure and operations; identifying risks (threats, vulnerabilities, and consequences); determining mitigation strategies and implementation methods; developing strategies to facilitate the recovery of the Maritime Transportation System after a Transportation Security Incident; developing and describing the process to continually evaluate overall port security by considering consequences and vulnerabilities, how they may change over time, and what additional mitigation strategies can be applied; providing advice to, and assisting the Captain of the Port in developing and maintaining the AMSP. Details regarding the specific objectives of the New Orleans AMSC can be found in the charter.

AMSC Composition

The composition of an AMSC, to include the New Orleans AMSC, is prescribed under 33 CFR 103.305. Pursuant to that regulation, members may be selected from the Federal, Territorial, or Tribal government; State government and political subdivisions of the State; local public safety, crisis management, and emergency response agencies; law enforcement and security organizations; maritime industry, including labor; other port stakeholders having a special competence in maritime security; and port stakeholders affected by security practices and policies.

AMSC Membership

Members of the AMSC should have at least five years of experience related to maritime or port security operations. The New Orleans AMSC has 16 members. We are seeking to fill 10 vacancies with this solicitation. Members' terms of office will be for five years; however, a member is eligible to serve additional terms of office based on COTP discretion. Members will not receive any salary or other compensation for their service on an AMSC.

Request for Applications

Please submit an application or nomination to the address indicated under the ADDRESSES section of this notice. Those seeking membership are not required to submit formal applications to the local Captain of the Port; however, we encourage the submission of resumes highlighting experience in the maritime and security industries.

Dated: November 23, 2022.
Kelly K. Denning,
Captain, U.S. Coast Guard, Captain of the Port/Federal Maritime Security Coordinator New Orleans.

[FR Doc. 2022-26225 Filed 12-1-22; 8:45 am]

BILLING CODE 9110-04-P